DEPARTMENT OF THE INTERIOR

National Park Service

[NPS-WASO-NAGPRA-NPS0036531; PPWOCRADN0-PCU00RP14.R50000]

Notice of Inventory Completion: Missouri Department of Natural Resources, Jefferson City, MO

AGENCY: National Park Service, Interior.

ACTION: Notice.

SUMMARY: In accordance with the Native American Graves Protection and Repatriation Act (NAGPRA), the Missouri Department of Natural Resources (MoDNR) has completed an inventory of human remains and has determined that there is a cultural affiliation between the human remains and Indian Tribes or Native Hawaiian organizations in this notice. The human remains were removed from McDonald County, MO.

DATES: Repatriation of the human remains in this notice may occur on or after October 12, 2023.

ADDRESSES: Caroline Crecelius, Repatriation Coordinator, Missouri Department of Natural Resources, Division of State Parks, 1659 E Elm Street, Jefferson City, MO 65101, telephone (573) 526-4249, email Caroline.Crecelius@dnr.mo.gov.

SUPPLEMENTARY INFORMATION: This notice is published as part of the National Park Service's administrative responsibilities under NAGPRA. The determinations in this notice are the sole responsibility of MoDNR. The National Park Service is not responsible for the determinations in this notice. Additional information on the determinations in this notice, including the results of consultation, can be found in the inventory or related records held by MoDNR.

Description

Human remains representing, at minimum, one individual were removed from McDonald County, MO. These human remains (a partial, fragmented skull) were removed from private property by Lieutenant Andy Pike of the Newton County Sheriff's Office, who in turn transferred them to Detective Pierson at the McDonald County Sheriff's Office. Following a determination that they were not part of an active criminal case, Detective Pierson transferred the human remains to the Missouri State Historic Preservation Office. Based on the opinion of a regional archeologist, the human remains date to the Late Woodland period (about 1550-950 years before the present). No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, linguistic, and oral traditional.

Determinations

Pursuant to NAGPRA and its implementing regulations, and after consultation with the appropriate Indian Tribes and Native Hawaiian organizations, MoDNR has determined that:

• The human remains described in this notice represent the physical remains of one individual of Native American ancestry.

• There is a relationship of shared group identity that can be reasonably traced between the human remains described in this notice and the Caddo Nation of Oklahoma and The Osage Nation.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after October 12, 2023. If competing requests for repatriation are received, MoDNR must determine the most appropriate requestor prior to repatriation. Requests for joint repatriation of the human remains are considered a single request and not competing requests. MoDNR is responsible for sending a copy of this notice to the Indian Tribes identified in this notice.

Authority: Native American Graves Protection and Repatriation Act, 25 U.S.C. 3003, and the implementing regulations, 43 CFR 10.9, § 10.10, and § 10.14.

Dated: August 30, 2023.
Melanie O'Brien,
Manager, National NAGPRA Program.

[FR Doc. 2023-19602 Filed 9-11-23; 8:45 am]

BILLING CODE 4312-52-P